DEPARTMENT OF HEALTH AND HUMAN SERVICES

Centers for Disease Control and Prevention

[30Day-13-12RI]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Information Collection on foreign-born, migrant, refugee and other mobile populations with current or future ties to the United States—New—National Center for Emerging and Zoonotic Infectious Diseases (NCEZID), Division of Global Migration and Quarantine (DGMQ), Centers for Disease Control and Prevention (CDC).

Background and Brief Description

The Centers for Disease Control and Prevention (CDC), National Center for Emerging and Zoonotic Infectious Diseases (NCEZID), Division of Global Migration and Quarantine (DGMQ), requests approval of a new “generic clearance” to better understand the health status, risk factors for disease and other health outcomes among foreign-born, migrant, refugee and other mobile populations with current or future ties to the United States. Insights gained from information collections will assist in the planning, implementation and improvement of disease prevention and control activities.

The information collection for which approval is sought is in accordance with DGMQ's mission to reduce morbidity and mortality among immigrants, refugees, travelers, expatriates, and other globally mobile populations, and to prevent the introduction, transmission, or spread of communicable diseases from foreign countries into the United States. This mission is supported by delegated legal authorities.

Section 361 of the Public Health Service (PHS) Act (42 U.S.C. 264) authorizes the Secretary of Health and Human Services (HHS) to make and enforce regulations necessary to prevent the introduction, transmission, or spread of communicable diseases from foreign countries or possessions into the United States and from one state or possession into any other state or possession. These regulations are codified in 42 Code of Federal Regulations (CFR) Parts 70 and 71.

The Secretary of Health and Human Services also has the legal authority to establish regulations outlining the requirements for the medical examination of aliens before they may be admitted into the United States. This authority is provided under Section 212(a)(1)(A) of the Immigration and Nationality Act (8 U.S.C. 1182(a)(1)(A)) and Section 325 of the Public Health Service Act. These regulations are codified in 42 CFR Part 34, which establish requirements that determine whether aliens can be admitted into the United States.

Successful implementation of DGMQ's regulatory authority and public health mission requires a variety of information collections with foreign-born, migrant and other mobile populations with current or future ties to the United States. These include but are not limited to: immigrants, international travelers, asylees and refugees, expatriates, border region residents, temporary migrants, and permanent alien residents.

The purpose of the new “generic clearance” is to better understand the health status, risk factors for disease and other health outcomes among foreign-born, migrant, refugee and other mobile populations with current or future ties to the United States. Numerous types of information will be collected under the auspices of this generic OMB clearance. These include, but are not limited to, knowledge, attitudes, beliefs, behavioral intentions, practices, behaviors, skills, self-efficacy, and health information needs and sources.

The proposed generic clearance is needed for DGMQ to fulfill its regulatory authority and public health mission, and will allow DGMQ to quickly collect important health-related information from the aforementioned hard-to-reach populations in order to improve routine and emergency public health programs and activities. Prior to each proposed information collection, DGMQ staff will search the literature and available data sources to ensure that the information of interest has not already been collected or is in the process of being collected. DGMQ will make all reasonable efforts to ensure that the information collection does not overlap with other data collection on immigrant health, such as those authorized under OMB control numbers 1405-0113, 0920-0006, 1615-0029, and 1615-0033.

DGMQ staff proposes that data collection methods for this package will include but are not limited to: Interviews, focus groups, group discussions, and surveys. Depending on the specific purpose, data collection methods may be conducted either in-person, by telephone, on paper, or online. Data may be collected in quantitative and/or qualitative forms. Each proposed information collection will submit the tools used for data collection, including screenshots of web-based surveys, in the statement provided to OMB.

DGMQ estimates that 18,720 respondents will be screened in order for 9485 respondents to be involved in information collection activities each year. We anticipate that the information collections undertaken within this generic will use some combination of 15 surveys, 35 focus groups, and 125 interviews, with some information collections making use of more than one method per collection. It is estimated that information collection activities will total 10,598 burden hours per year.

Estimated Annualized Burden Hours
Type of respondent | Form name | Number of respondents | Number of responses per respondent | Average burden per response (in hours)
Foreign-born, migrant, refugee and other mobile populations | Screeners for Surveys, Focus Groups, Interviews | 18,720 | 1 | 10/60
Foreign-born, migrant, refugee and other mobile populations | Surveys (Approximately 15 surveys/year) | 9,000 | 1 | 45/60
Foreign-born, migrant, refugee and other mobile populations | Focus Groups (Approximately 35 focus groups/year) | 360 | 1 | 1.5
Foreign-born, migrant, refugee and other mobile populations | Interviews (Approximately 125 interviews/year) | 125 | 1 | 1.5

Dated: October 30, 2012.
Ron A. Otten,
Director, Office of Scientific Integrity (OSI), Office of the Associate Director for Science (OADS), Office of the Director, Centers for Disease Control and Prevention.

[FR Doc. 2012-26898 Filed 11-2-12; 8:45 am]

BILLING CODE 4163-18-P